DEPARTMENT OF EDUCATION

RIN 1820 ZA26

National Institute on Disability and Rehabilitation Research

AGENCY: Office of Special Education and Rehabilitative Services, Department of Education.

ACTION: Notice of proposed priorities.

SUMMARY: The Assistant Secretary for Special Education and Rehabilitative Services proposes priorities under the Rehabilitation Research and Training Centers (RRTC) Program for the National Institute on Disability and Rehabilitation Research (NIDRR). The Assistant Secretary may use one or more of these priorities for competitions in fiscal year (FY) 2004 and later years. We take this action to focus research attention on areas of national need. We intend these priorities to improve employment-related rehabilitation services and outcomes for individuals with disabilities.

DATES: We must receive your comments on or before March 5, 2004.

ADDRESSES: Address all comments about these proposed priorities to Donna Nangle, U.S. Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880.

If you use a telecommunications device for the deaf (TDD), you may call the TDD number at (202) 205-4475 or via the Internet: donna.nangle@ed.gov.

Individuals with disabilities may obtain this document in an alternative format (e.g., Braille, large print, audiotape, or computer diskette) on request to the contact person listed under FOR FURTHER INFORMATION CONTACT.

SUPPLEMENTARY INFORMATION:

Invitation to Comment

We invite you to submit comments regarding these proposed priorities. To ensure that your comments have maximum effect in developing the notice of final priorities, we urge you to identify clearly the specific proposed priority that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priorities in room 3412, Switzer Building, 330 C Street, SW., Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice published in the Federal Register. When inviting applications, we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the competitive priority over an application of comparable merit that does not meet the competitive priority (34 CFR 75.105(c)(2)(ii)).

Invitational priority: Under an invitational priority, we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/news/freedominitiative/freedominitiative.html.

These proposed priorities are in concert with NIDRR's Long-Range Plan (Plan). The Plan is comprehensive and integrates many issues relating to disability and rehabilitation research topics. While applicants will find many sections throughout the Plan that support potential research to be conducted under these proposed priorities, a specific reference is included for each priority presented in this notice. The Plan can be accessed on the Internet at the following site: http://www.ed.gov/rschstat/research/pubs/index.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Rehabilitation Research and Training Centers

RRTCs conduct coordinated and integrated advanced programs of research targeted toward the production of new knowledge to improve rehabilitation methodology and service delivery systems, alleviate or stabilize disability conditions, or promote maximum social and economic independence for persons with disabilities. Additional information on the RRTC program can be found at http://www.ed.gov/rschstat/research/pubs/res-program.html#RRTC.

General Requirements of Rehabilitation Research and Training Centers

RRTCs must:

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers for national excellence in rehabilitation research for individuals with disabilities, their representatives, providers, and other interested parties.

The Department is particularly interested in ensuring that the expenditure of public funds is justified by the execution of intended activities and the advancement of knowledge and, thus, has built this accountability into the selection criteria. Not later than three years after the establishment of any RRTC, NIDRR will conduct one or more reviews of the activities and achievements of the RRTC. In accordance with the provisions of 34 CFR 75.253(a), continued funding depends at all times on satisfactory performance and accomplishment of approved grant objectives.

The Secretary is interested in hypothesis-driven research activities. To address this interest it is expected that applicants will articulate goals, objectives, and expected outcomes for the proposed research activities. It is critical that proposals describe expected public benefits, especially benefits for individuals with disabilities, and propose projects that are optimally designed to demonstrate outcomes that are consistent with the proposed goals. Applicants are encouraged to include information describing how they will measure outcomes, including the indicators that will represent the end-result, the mechanisms that will be used to evaluate outcomes associated with specific problems or issues, and how the proposed activities will support new intervention approaches and strategies, including a discussion of measures of effectiveness. Submission of this information is voluntary except where required by the selection criteria.

Priorities

Background

National data indicate that employment rates of individuals with disabilities continue to lag well behind those of individuals without disabilities. Analyses of the National Health Interview Survey, the Survey of Income and Program Participation, and the Current Population Survey provide evidence that substantial differentials in employment exist among all sociodemographic groups and in periods of economic expansion as well as decline. (How Working Age People With Disabilities Fared Over the 1990s Business Cycle. Burkhauser, RV, Daly, MC, and Houtenville, AJ. Cornell University, Ithaca, NY. 2000; Improved Employment Prospects for People With Disabilities. Kaye, HS. Department of Education, Washington, DC. In press, 2003; Employment, Earnings, and Disability. McNeil, JM. Census Bureau, Washington, DC. 2000. http://www.census.gov/hhes/www/disable/emperndis.pdf). Even when employed, individuals with disabilities have substantially lower earnings than those without disabilities (McNeil, 2000).

However, some analyses suggest that there has been some progress in closing the employment gap. In expanding industries, the employment gap shrank during the decade of the 1990's. Also, during that time frame, the employment rate increased among the group of individuals with disabilities who consider themselves able to work (Kaye, 2003).

These priorities are designed to encourage studies that address gaps in understanding of the complex issues and factors affecting employment of individuals with disabilities. The focus of this research may be on the numerous factors affecting employment outcomes, facilitators and barriers for workforce participation, and employment policies. The goal of this research is to ultimately provide guidance to employers, policymakers, trainers and educators, and stakeholders to assist them in selecting optimal strategies that promote improved employment outcomes for individuals with disabilities.

Proposed Priorities

The Assistant Secretary proposes to fund RRTCs that will conduct research on improving employment outcomes of individuals with disabilities. Applicants must select one of the following priorities: Economic Research on Employment Policy and Individuals with Disabilities; Employment Service Systems; Workplace Supports and Job Retention; and Substance Abuse and Employment Outcomes.

Under each of these priorities, the RRTC must:

(1) Develop, implement, and evaluate a comprehensive plan for training critical stakeholders, e.g., individuals with disabilities and their family members, practitioners, service providers, researchers, and policymakers;

(2) Provide technical assistance to critical stakeholders to facilitate utilization of research findings; and

(3) Develop a systematic plan for widespread dissemination of informational materials based on knowledge gained from the RRTC's research activities, for individuals with disabilities, their representatives, service providers, and other interested parties.

In addition to the specific activities proposed by the applicant, each RRTC must:

• Conduct a state-of-the-science conference on its respective area of research in the third year of the grant cycle, including research from other sources, and publish a comprehensive report on the final outcomes of the conference in the fourth year of the grant cycle;

• Coordinate on research projects of mutual interest with relevant NIDRR-funded projects as identified through consultation with the NIDRR project officer;

• Involve persons with disabilities in planning and implementing the RRTC's research, training, and dissemination activities, and in evaluating the research;

• Demonstrate in its application how it will address, in whole or in part, the needs of individuals with minority backgrounds; and

• Demonstrate how the RRTC project will yield measurable results for individuals with disabilities;

• Identify specific performance targets and propose outcome indicators, along with time lines to reach these targets; and

• Demonstrate how the RRTC project can transfer research findings to practical applications in planning, policy-making, program administration, and delivery of services to individuals with disabilities.

• Consider the effect of demographics factors such as race/ethnicity, and educational level and disability factors such as and disability severity when conducting the research.

Each RRTC must focus research on one of the following priorities:

Priority 1—Economic Research on Employment Policy and Individuals with Disabilities: The purpose of the priority on economic research on employment policy and individuals with disabilities is to improve information on the employment status of individuals with disabilities and the effects of legislative and policy initiatives on employment outcomes for such individuals. The research funded under this priority must be designed to contribute to the following outcomes:

• Improved understanding of employment trends for individuals with disabilities in relation to macroeconomic, legislative, and policy changes;

• Strategies for evaluating legislative and policy efforts to improve employment outcomes for individuals with disabilities; and

• Identification of policies that contribute to improved employment outcomes for individuals with disabilities.

The research resulting from this RRTC's program will provide guidance to policy-makers and others involved in efforts to improve employment outcomes for individuals with disabilities. The reference for this topic can be found in the Plan, chapter 3, Employment Outcomes: Economic Policy and Labor Market Trends.

Priority 2—Employment Service Systems: The purpose of the priority on employment service systems is to identify effective strategies that could be used by public and private employment service providers to improve employment outcomes for individuals with disabilities. Among public systems, the RRTC may include State vocational rehabilitation services and services provided under the Workforce Investment Act (WIA). Among private systems, the RRTC may include for-profit and non-profit employment service providers. The RRTC may propose research related to other public and private employment systems. The reference for this topic can be found in the Plan, chapter 3, Employment Outcomes: Community-Based Employment Service Programs and State Service Systems. The research funded under this priority must be designed to contribute to the following outcomes:

• Cost-effective strategies that enhance consumer access to, and satisfaction with, services that improve employment outcomes;

• Effective simplified strategies for eligibility determination that promote access to services and improved customer satisfaction;

• Effective service system strategies for the provision of individualized services, and enhanced coordination of services at the individual level; and

• Effective strategies to improve employment outcomes for individuals with disabilities.

Priority 3—Workplace Supports and Job Retention: The purpose of the priority on workplace supports and job retention is to improve employment outcomes through the use of effective workplace supports and job retention strategies. The reference for this topic can be found in the Plan, chapter 3, Employment Outcomes: Employer Roles and Workplace Supports. The research funded under this priority must be designed to contribute to the following outcomes:

• Improved understanding of the use of workplace supports, accommodations, and strategies across a variety of work settings and with specific disability groups;

• Improved understanding of factors that impede the use of effective workplace supports and job retention strategies; and

• Identification of effective employer-based or workplace strategies or accommodations that improve employment outcomes for individuals with disabilities.

Priority 4—Substance Abuse and Employment Outcomes: The purpose of the priority on substance abuse and employment outcomes is to improve employment outcomes for individuals with disabilities who also have substance abuse problems. The research funded under this priority must be designed to contribute to the following outcomes:

• Effective techniques for individuals and agencies providing employment-related services to individuals with disabilities to screen and identify those who have substance abuse problems; and

• Effective strategies to improve employment outcomes for individuals with disabilities who have substance abuse problems.

When conducting this work, the RRTC must examine strategies that are effective in both community and work settings (including community-based partnerships) and must examine the effects of workplace support and clinical treatment services. The reference to this topic can be found in the Plan, chapter 2, Dimensions of Disability: Emerging Universe of Disability.

Executive Order 12866

This notice of proposed priorities has been reviewed in accordance with Executive Order 12866. Under the terms of the order, we have assessed the potential costs and benefits of this regulatory action.

The potential costs associated with the notice of proposed priorities are those resulting from statutory requirements and those we have determined as necessary for administering this program effectively and efficiently.

In assessing the potential costs and benefits—both quantitative and qualitative—of this notice of proposed priorities, we have determined that the benefits of the proposed priorities justify the costs.

Summary of potential costs and benefits

The potential costs associated with these proposed priorities is minimal while the benefits are significant. Grantees may anticipate costs associated with completing the application process in terms of staff time, copying, and mailing or delivery. The use of e-Application technology reduces mailing and copying costs significantly.

The benefits of the RRTC Program have been well established over the years in that similar projects have been completed successfully. These proposed priorities will generate new knowledge through research, dissemination, utilization, training, and technical assistance projects.

The benefit of these proposed priorities and project requirements also will be the establishment of new RRTCs that generate, disseminate, and promote the use of new information to improve options and participation in the community for individuals with disabilities.

Applicable Program Regulations: 34 CFR part 350.

Electronic Access to This Document

You may review this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at www.gpoaccess.gov/nara/index.html.

(Catalog of Federal Domestic Assistance Number: 84.133B, Rehabilitation Research and Training Center Program)

Program Authority: 29 U.S.C. 762(g) and 764(b)(2).

Dated: January 29, 2004.
Troy R. Justesen,
Acting Deputy Assistant Secretary for Special Education and Rehabilitative Services.

[FR Doc. 04-2287 Filed 2-3-04; 8:45 am]

BILLING CODE 4000-01-P